ENVIRONMENTAL PROTECTION AGENCY

40 CFR Part 180

[EPA-HQ-OPP-2006-0848; FRL-9351-5]

Fenamidone; Pesticide Tolerance; Technical Amendment

AGENCY: Environmental Protection Agency (EPA).

ACTION: Final rule; technical amendment.

SUMMARY: EPA issued a final rule in the Federal Register of October 24, 2007, establishing tolerances for residues of fenamidone in or on various commodities. This document is being issued to correct a typographical error.

DATES: This final rule is effective June 1, 2012.

ADDRESSES: The docket for this action, identified by docket identification (ID) number EPA-HQ-OPP-2006-0848, is available either electronically through http://www.regulations.gov or in hard copy at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Tony Kish, Registration Division (7505P), Office of Pesticide Programs, Environmental Protection Agency, 1200 Pennsylvania Ave. NW., Washington, DC 20460-0001; telephone number: (703) 308-9443; email address: kish.tony@epa.gov.

SUPPLEMENTARY INFORMATION:

I. Does this action apply to me?

The Agency included in the final rule a list of those who may be potentially affected by the action. If you have questions regarding the applicability of this action to a particular entity, consult the person listed under FOR FURTHER INFORMATION CONTACT.

II. What does this technical amendment do?

EPA issued a final rule in the Federal Register of October 24, 2007 (72 FR 60266) (FRL-8152-9), establishing tolerances for residues of the fungicide fenamidone in or on various commodities. In Units II., III., and V., of the preamble, the text correctly listed the tolerance level for the commodity “strawberry” at 0.02 parts per million (ppm). The table in § 180.579(d), of the regulatory text, incorrectly listed the tolerance level for “strawberry” at 0.15. This technical amendment corrects that error.

III. Why is this action issued as a final rule?

Section 553 of the Administrative Procedure Act (APA), 5 U.S.C. 553(b)(3)(B), provides that, when an Agency for good cause finds that notice and public procedure are impracticable, unnecessary or contrary to the public interest, the Agency may issue a final rule without providing notice and an opportunity for public comment. EPA has determined that there is good cause for making this technical amendment final without prior proposal and opportunity for comment, because this action merely corrects a typographical error. EPA finds that this constitutes good cause under 5 U.S.C. 553(b)(3)(B).

IV. Do any of the statutory and executive order reviews apply to this action?

No. For a detailed discussion concerning the statutory and executive order reviews, refer to Unit VI. of the October 24, 2007 final rule.

V. Congressional Review Act

Pursuant to the Congressional Review Act (5 U.S.C. 801 et seq.) EPA will submit a report containing this rule and other required information to the U.S. Senate, the U.S. House of Representatives, and the Comptroller General of the United States prior to publication of this rule in the Federal Register. This final rule is not a “major rule” as defined by 5 U.S.C. 804(2).

List of Subjects in 40 CFR Part 180

Environmental protection, Administrative practice and procedure, Agricultural commodities, Pesticides and pests, Reporting and recordkeeping requirements.

Dated: May 24, 2012.
Losi Rossi,
Director, Registration Division, Office of Pesticide Programs.

Therefore, 40 CFR part 180 is amended as follows:

PART 180—[AMENDED]

1. The authority citation for part 180 continues to read as follows:

Authority: 21 U.S.C. 321(q), 346a and 371.

2. Section 180.579 is amended by revising the entry for “Strawberry” in paragraph (d) to read as follows:

§ 180.579 Fenamidone; tolerances for residues.

* * * * *

(d) * * *

Commodity | Parts per million
* * * * *
Strawberry | 0.02

[FR Doc. 2012-13354 Filed 5-31-12; 8:45 am]

BILLING CODE 6560-50-P